DEPARTMENT OF DEFENSE

Department of the Navy

Notice of Availability of Government-Owned Inventions; Available for Licensing

AGENCY: Department of the Navy, DoD.

ACTION: Notice.

SUMMARY: The inventions listed below are assigned to the United States Government, as represented by the Secretary of the Navy and are available for domestic and foreign licensing by the Department of the Navy.

The following patents are available for licensing: Patent No. 8,784,584: PERCHLORATE-FREE YELLOW SIGNAL FLARE COMPOSITION//Patent No. 8,782,944: ACCESSORY INTERFACE SYSTEM//Patent No. 8,802,983: PROTECTIVE MEMBERS FOR AN ELECTRICAL INTERFACE ASSEMBLY//Patent No. 8,669,504: HAND LAUNCHABLE UNMANNED AERIAL VEHICLE//Patent No. 8,738,324: METHOD AND SYSTEM FOR DETERMINATION OF DETECTION PROBABILITY OF A TARGET OBJECT BASED ON A RANGE//Patent No. 8,493,261: COUNTERMEASURE DEVICE FOR A MOBILE TRACKING DEVICE//Patent No. 8,526,097: TUNABLE DETECTION SYSTEM//Patent No. 8,576,548: COMMUNICATIONS VEHICLE//Patent No. 8,692,171: HAND LAUNCHABLE UNMANNED AERIAL VEHICLE//Patent No. 8,434,397: HELICOPTER WEAPON MOUNTING SYSTEM//Patent No. 8,209,897: TARGETING SYSTEM FOR A PROJECTILE LAUNCHER//Patent No. 8,573,109: AMMUNITION CANISTER AND FEED SYSTEM//Patent No. 8,692,729: ANTENNA WITH SHAPED DIELECTRIC LOADING//Patent No. 8,531,114: ILLUMINATION BEACON//Patent No. 8,216,403: PERCHLORATE-FREE RED SIGNAL FLARE COMPOSITION//Patent No. 8,366,847: PERCHLORATE-FREE YELLOW SIGNAL FLARE COMPOSITION//Patent No. 8,215,236: SIGNAL TRANSMISSION SURVEILLANCE SYSTEM//Patent No. 8,001,901: SIGNAL TRANSMISSION SURVEILLANCE SYSTEM//Patent No. 8,543,357: RF POWER DENSITY AND FIELD CHARACTERIZATION TECHNIQUE//Patent No. 8,788,218: EVENT DETECTION SYSTEM HAVING MULTIPLE SENSOR SYSTEMS IN COOPERATION WITH AN IMPACT DETECTION SYSTEM//Patent No. 8,788,220: VEHICLE DAMAGE DETECTION SYSTEM//Patent No. 8,365,664: IMPULSE CARTRIDGE//Patent No. 8,250,979: MULTIPLE BAY EJECTION DEVICE SYSTEM//Patent No. 8,671,840: FLEXIBLE FRAGMENTATION SLEEVE//Patent No. 8,234,978: HAND-HELD FIRING DEVICE//Patent No. 8,356,541: VEHICLE PROTECTIVE STRUCTURE//Patent No. 8,146,480: VEHICLE PROTECTIVE STRUCTURE//Patent No. 8,479,434: ACCESSORY INTERFACE SYSTEM//Patent No. 8,478,335: SYSTEM AND METHOD FOR RADIO COMMUNICATION//Patent No. 8,151,426: METHOD OF CONVERTING A TRAILER CONFIGURATION//Patent No. 8,276,325: VEHICLE AND MAST MOUNTING ASSEMBLY THEREFOR//Patent No. 8,146,283: WEAPON MOUNTED ADAPTER//Patent No. 7,988,802: THERMITE TORCH FORMULATION INCLUDING COMBINED OXIDIZERS//Patent No. 7,998,291: THERMITE TORCH FORMULATION INCLUDING MOLYBDENUM TRIOXIDE//Patent No. 8,737,634: WIDE AREA NOISE CANCELLATION SYSTEM AND METHOD//Patent No. 8,297,626: PRESSURE SEAL//Patent No. 8,154,954: PROJECTILE FOR FOCUSING A KINETIC PULSE ARRAY//Patent No. 7,804,741: SYSTEM AND METHOD FOR FOCUSING A KINETIC PULSE ARRAY//Patent No. 7,948,829: LOCATOR SYSTEM AND METHOD INCLUDING NODE AND TARGET ACQUISITION//Patent No. 8,402,892: SIMULTANEOUS NONELECTRIC PRIMING ASSEMBLY AND METHOD//Patent No. 8,408,460: AUTO ADJUSTING RANGING DEVICE//Patent No. 8,281,718: EXPLOSIVE FOIL INITIATOR AND METHOD OF MAKING//Patent No. 8,445,813: COMPACT PORTABLE HIGH POWER YTTERBIUM LASER//Patent No. 7,999,230: TUNABLE DETECTION SYSTEM AND METHOD OF USE//Patent No. 8,420,977: HIGH POWER LASER SYSTEM//Patent No. 8,367,991: MODULATION DEVICE FOR A MOBILE TRACKING DEVICE//Patent No. 8,581,771: SCENE ILLUMINATOR//Patent No. 8,212,709: COUNTERMEASURE METHOD FOR A MOBILE TRACKING DEVICE//Patent No. 8,146,476: VEHICLE PROTECTIVE STRUCTURE//Patent No. 7,946,210: VEHICLE PROTECTIVE STRUCTURE//Patent No. 7,811,092: ROTARY ELECTRICAL CONTACT DEVICE//Patent No. 8,683,451: SYSTEM AND METHOD FOR TRANSLATING SOFTWARE CODE//Patent No. 8,704,891: EXTERNAL MOUNTED ELECTRO OPTIC SIGHT FOR A VEHICLE//Patent No. 8,398,038: WHEEL SUPPORT//Patent No. 8,557,421: REUSABLE ELECTROCHEMICAL CELL TEST FIXTURE//Patent No. 8,667,333: EXTENSIBLE TESTING SYSTEM//Patent No. 8,688,795: GPS EMBEDDED INTERACTIVE NETWORK INTERFACE//Patent No. 8,151,683: LINK CHUTE EJECTION ADAPTER//Patent No. 8,316,023: DATA MANAGEMENT SYSTEM//Patent No. 8,283,562: ELECTRICAL INTERFACE ASSEMBLY//Patent No. 8,789,261: COMMUNICATIONS VEHICLE//Patent No. 8,450,609: PROTECTIVE MEMBERS FOR AN ELECTRICAL INTERFACE ASSEMBLY//Patent No. 7,841,898: CONNECTOR ADAPTOR//Patent No. 8,744,783: SYSTEM AND METHOD FOR MEASURING POWER GENERATED DURING LEGGED LOCOMOTION//Patent No. 8,423,336: AERODYNAMIC SIMULATION SYSTEM AND METHOD FOR OBJECTS DISPENSED FROM AN AIRCRAFT//Patent No.8,366,946: FRAME FOR HOLDING LAMINATE DURING PROCESSING//Patent No. 8,069,767: GUN MOUNT AND EJECTION SYSTEM//Patent No. 8,151,684: AMMUNITION CANISTER AND FEED SYSTEM//Patent No. 7,811,132: ELECTROMAGNETIC INTERFERENCE PROTECTIVE BACKSHELL FOR CABLES//Patent No. 8,002,914: SMOKELESS FLASH POWDER//Patent No. 8,146,993: ROTATABLE SEAT ASSEMBLY//Patent No. 8,055,206: SIGNAL TRANSMISSION SURVEILLANCE SYSTEM//Patent No. 8,004,660: METHOD AND SYSTEM FOR DETERMINATION OF DETECTION PROBABILITY OF A TARGET OBJECT BASED ON VIBRATION//Patent No. 8,447,563: METHOD AND SYSTEM FOR DETERMINATION OF DETECTION PROBABILITY OR A TARGET OBJECT BASED ON A RANGE//Patent No. 8,149,390: USER INTERFACE FOR LASER TARGETING SYSTEM//Patent No. 7,987,791: METHOD OF DISRUPTING ELECTRICAL POWER TRANSMISSION//Patent No. 8,082,849: SHORT TERM POWER GRID DISRUPTION DEVICE//Patent No. 8,267,014: MULTIPLE BAY EJECTION DEVICE//Patent No. 8,366,054: HAND LAUNCHABLE UNMANNED AERIAL VEHICLE//Patent No. 8,656,081: SYSTEM AND METHOD FOR COORDINATING CONTROL OF AN OUTPUT DEVICE BY MULTIPLE CONTROL CONSOLES//Patent No. 8,297,191: PRESSURE SEAL//Patent No. 8,264,417: APERTURE ANTENNA WITH SHAPED DIELECTRIC LOADING//Patent No. 8,213,547: IDENTIFICATION OF TARGET SIGNALS IN RADIO FREQUENCY PULSED ENVIRONMENTS//Patent No. 8,244,268: SYSTEM AND METHOD FOR COMMUNICATING WITH A PLURALITY OF REMOTE COMMUNICATION UNITS//Patent No. 8,147,133: TOP LOADED TWIN CELL CALORIMETER SYSTEM WITH REMOVABLE REFERENCE//Patent No. 7,882,785: DEMOLITION CHARGE HAVING A MULTI-PRIMED INITIATION SYSTEM//Patent No.7,882,784: DEMOLITION CHARGE HAVING A MULTI-PRIMED INITIATION SYSTEM//Patent No. 8,368,996: TUNABLE DETECTION SYSTEM//Patent No. 8,156,050: PROJECT MANAGEMENT SYSTEM AND METHOD//Patent No. 8,421,673: METHOD AND SOFTWARE FOR SPATIAL PATTERN ANALYSIS//Patent No. 7,813,223: SYSTEM AND METHOD FOR FOCUSING A KINETIC PULSE ARRAY//Patent No. 8,279,118: APERIODIC ANTENNA ARRAY//Patent No. 8,146,992: TURRET SEAT//Patent No. 8,277,583: PERCHLORATE-FREE RED SIGNAL FLARE COMPOSITION//Patent No. 8,568,542: PERCHLORATE-FREE YELLOW SIGNAL FLARE COMPOSITION//Patent No. 7,988,801: PERCHLORATE-FREE GREEN SIGNAL FLARE COMPOSITION//Patent No. 8,264,486: REALTIME-HIGH SPEED THREE DIMENSIONAL MODELING SYSTEM//Patent No. 8,667,206: INTERFACE DEVICE FOR COORDINATING CONTROL OF AN OUTPUT DEVICE BY MULTIPLE CONTROL CONSOLES//Patent No. 7,966,763: TARGETING SYSTEM FOR A PROJECTILE LAUNCHER//Patent No. 8,210,557: CONVERTIBLE TRAILER//Patent No. 8,264,409: ELECTROMAGNETIC RADIATION SOURCE LOCATING SYSTEM//Patent No. 8,305,252: COUNTERMEASURE DEVICE FOR MOBILE TRACKING DEVICE//Patent No. 7,635,266: ROTARY ELECTRICAL CONTACT DEVICE//Patent No. 8,452,569: LASER TARGETING SYSTEM//Patent No. 8,.436,276: PORTABLE CUTTING DEVICE FOR BREACHING A BARRIER//Patent No.8,149,153: INSTRUMENTATION STRUCTURE WITH REDUCED ELECTROMAGNETIC RADIATION REFLECTIVITY OR INTERFERENCE CHARACTERISTICS//Patent No. 7,812,932: UNIVERSAL LASER RANGE EVALUATION AND VERIFICATION SYSTEM//Patent No. 8,001,902: SIGNAL TRANSMISSION SURVEILLANCE SYSTEM//Patent No. 8,077,098: ANTENNA TEST SYSTEM//Patent No. 8,058,189: METHOD AND APPARATUS FOR RESISTING BALLISTIC IMPACT//Patent No. 8,240,520: MATERIAL EXTRUDER//Patent No. 8,004,455: ANTENNA SIMULATOR//Patent No. 7,885,001: TILT LOCK MECHANISM AND METHOD FOR A MOVEABLE OPTICAL OR DISPLAY DEVICE//Patent No. 7,823,498: VEHICLE PROTECTIVE STRUCTURE//Patent No. 7,940,225: DISCONE ANTENNA WITH ASYMMETRIC DIELECTRIC LOADING//Patent No. 8,211,559: METHOD AND SYSTEM FOR DETECTING LEAKAGE OF ENERGY STORAGE STRUCTURE LIQUID//Patent No. 7,774,913: DEVICE AND METHOD FOR SEPARATING PARTS OF ACOUSTIC SENSORS//Patent No. 7,938,066: STRIP CHARGE STORAGE ARRANGEMENT//Patent No. 7,470,883: NON-INVASIVE INITIATION DETONATION SENSOR//Patent No. 7,472,652: DEMOLITION CHARGE HAVING MULTI-PRIMED INITIATION SYSTEM//Patent No. 8,576,953: IDENTIFICATION OF TARGET SIGNALS IN RADIO FREQUENCY PULSED ENVIRONMENTS//Patent No. 8,259,860: IDENTIFICATION OF TARGET SIGNALS IN RADIO FREQUENCY PULSED ENVIRONMENTS//Patent No. 7,049,998: INTEGRATED RADAR, OPTICAL SURVEILLANCE, AND SIGHTING SYSTEM//Patent No. 8,150,325: BLANKING SYSTEM//Patent No. 7,157,290: MAGNETICALLY SHIELDED CIRCUIT BOARD//Patent No. 7,573,235: BATTERY CHARGER AND POWER REDUCTION SYSTEM AND METHOD//Patent No. 7,242,346: PULSE DESCRIPTOR WORD GENERATOR//Patent No. 6,970,002: TUBE MEASUREMENT AND CALIBRATION SYSTEM//Patent No. 7,222,525: SKIN AND TISSUE SIMULANT FOR MUNITIONS TESTING//Patent No. 7,361,206: APPARATUS AND METHOD FOR WATER VAPOR REMOVAL IN AN ION MOBILITY SPECTROMETER//Patent No. 7,078,680: ION MOBILITY SPECTROMETER USING ION BEAM MODULATION & WAVELET DECOMPOSITION//Patent No. 7,458,305: MODULAR SAFE ROOM//Patent No. 7,058,377: PULSED RADIO FREQUENCY MEASUREMENT//Patent No. 6,798,888: MOUNT FOR UNDERWATER ACOUSTIC Projector//Patent No. 6,798,122: LIGHTWEIGHT UNDERWATER ACOUSTIC PROJECTOR//Patent No. 6,700,517: PHOTONIC ANALOG-TO-DIGITAL CONVERTER//Patent No. 6,995,359: MINIATURE CRYOGENIC SHUTTER ASSEMBLY//Patent No. 6,564,690: INTERFACE PALLET ASSEMBLY FOR A HELICOPTER-BASED WEAPON SYSTEM//Patent No. 6,675,694: MACHINE GUN & AMMUNITION CAN INTERFACE GUN MOUNT//Patent No. 6,582,246: FOLDABLE CONNECTOR ASSEMBLY FOR ELECTRONIC DEVICE//Patent No. 6,665,594: PLUG & PLAY MODULAR MISSION PAYLOADS//Patent No. 7,278,310: NON-INVASIVE MEASUREMENT SYSTEM//Patent No. 6,570,539: METHOD FOR VIBRATION DETECTION DURING NEAR-FIELD ANTENNA TESTING//Patent No. 6,961,887: STREAMLINED LASAR-TO-L200 POST-PROCESSING FOR CASS.

ADDRESSES: Requests for copies of the patents cited should be directed to Naval Surface Warfare Center, Crane Division, Code OOL, Bldg 2, 300 Highway 361, Crane, IN 47522-5001.

FOR FURTHER INFORMATION CONTACT: Mr. Christopher Monsey, Naval Surface Warfare Center, Crane Division, Code OOL, Bldg 2, 300 Highway 361, Crane, IN 47522-5001, telephone 812-854-4100.

Authority: 35 U.S.C. 207, 37 CFR part 404.

Dated: December 29, 2014.
N.A. Hagerty-Ford,
Commander, Judge Advocate General's Corps, U.S. Navy, Federal Register Liaison Officer.

[FR Doc. 2015-00019 Filed 1-6-15; 8:45 am]

BILLING CODE 3810-FF-P